DEPARTMENT OF ENERGY

Federal Energy Regulatory Commission

[Docket No. EL04-122-000, et al.]

PPL University Park, LLC, et al.; Electric Rate and Corporate Filings

August 16, 2004.

The following filings have been made with the Commission. The filings are listed in ascending order within each docket classification.

1. PPL University Park, LLC Complainant v. Commonwealth Edison Company Respondent

[Docket No. EL04-122-000]

Take notice that on August 13, 2004, PPL University Park, LLC (PPL University Park) filed a formal complaint against Commonwealth Edison Company (ComEd) pursuant to 16 U.S.C. 824e and Rule 206 of the Rules of Practice and Procedure of the Commission, 18 CFR 385.206 (2003), requesting that the Commission find certain terms and conditions of the Interconnection Agreement Between Commonwealth Edison Company and Large Scale Distributed Generation II Statutory Trust, PPL Large Scale Distributed Generation II, LLC and PPL University Park, LLC, dated July 31, 2001, to be inconsistent with Commission policy and thus unjust, unreasonable, and unduly discriminatory in failing to provide PPL University Park reimbursement for upgrades to the ComEd system paid for by PPL University Park.

PPL University Park states that it certifies that copies of the compliant were served on the contacts for ComEd as listed on the Commission's list of Corporate Officials.

Comment Date: 5 p.m. eastern time on September 2, 2004.

2. Duke Energy Marketing America, LLC

[Docket No. ER03-956-002]

Take notice that, on August 11, 2004, Duke Energy Marketing America, LLC (DEMA), formerly known as Duke Energy Power Marketing, LLC, submitted its triennial market power update.

DEMA states that copies of the filing were served on parties on the official service list in the above-captioned proceeding.

Comment Date: 5 p.m. eastern time on August 24, 2004.

3. California Independent System Operator Corporation

[Docket No. ER04-835-002]

Take notice that on August 10, 2004, the California Independent System Operator Corporation (ISO) submitted a filing in compliance with the Commission's order on Tariff Amendment No. 60, issued July 8, 2004 in Docket No. ER04-835-000, 108 FERC ¶ 61,022.

ISO states that this filing has been served upon all parties on the official service list for the captioned docket. In addition, the ISO states that it has posted this filing on the ISO Home Page.

Comment Date: 5 p.m. eastern time on August 31, 2004.

4. Lakewood Cogeneration, L.P.

[Docket No. ER04-989-001

Take notice that on August 10, 2004, Lakewood Cogeneration, L.P. (Lakewood) submitted for filing an amendment to its June 23, 2004 filing in Docket No. ER04-989-000.

Comment Date: 5 p.m. eastern time on September 1, 2004.

5. Consolidated Edison Energy Massachusetts, Inc.

[Docket No. ER04-990-001]

Take notice that on August 10, 2004, Consolidated Edison Energy Massachusetts, Inc. (CEEMI) submitted an amendment to its June 23, 2004 filing in Docket No. ER04-990-000.

Comment Date: 5 p.m. eastern time on September 1, 2004.

6. Newington Energy, L.L.C.

[Docket No. ER04-991-000]

Take notice that on August 10, 2004, Newington Energy, L.L.C. (Newington) submitted for filing an amendment to its June 23, 2004 filing in Docket No. ER04-991-000.

Comment Date: 5 p.m. eastern time on September 1, 2004.

7. PPL University Park, LLC

[Docket No. ER04-1111-000]

Take notice that on August 11, 2004, PPL University Park, LLC (PPL University Park) submitted revisions to its FERC Electric Tariff, Original Volume No. 1 (Tariff), to amend its Tariff to list each of the ancillary service markets that PJM, NYISO and ISO-NE respectively operate; to include specific reference to resale of Financial Transmission Rights and similar congestion rights in the Tariff in accordance with Commission-approved procedures; and to make certain minor non-substantive conforming edits to the Tariff.

PPL University states that copies of the filing were served upon PJM Interconnection, L.L.C., New York Independent System Operator, Inc. and ISO New England, Inc.

Comment Date: 5 p.m. eastern time on September 1, 2004.

8. New England Power Pool

[Docket Nos. OA97-237-017; ER97-1079-008; ER97-3574-007; OA97-608-007; ER97-4421-007; and ER98-499-006]

Take notice that on July 30, 2004, an informational filing was made by the New England Power Pool (NEPOOL) Participants Committee relating to rate surcharges determined in accordance with formula rates of the Restated NEPOOL Open Access Transmission Tariff. NEPOOL Participants Committee states that these materials describe the transmission charges that are in effect for the twelve month period commencing June 1, 2004 (the 2004/2005 NEPOOL Rate Year).

NEPOOL Participants Committee states that copies of these materials were sent to the NEPOOL Participants and the New England state governors and regulatory commissions.

Comment Date: 5 p.m. eastern time on August 24, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda Mitry,
Acting Secretary.

[FR Doc. E4-1883 Filed 8-23-04; 8:45 am]

BILLING CODE 6717-01-P